OFFICE OF PERSONNEL MANAGEMENT

January 2011 Pay Schedules

AGENCY: U.S. Office of Personnel Management.

ACTION: Notice.

SUMMARY: The President has signed an Executive order stating that certain civilian employee pay schedules are not adjusted in 2011 and remain at 2010 levels. This notice serves as documentation for the public record.

FOR FURTHER INFORMATION CONTACT: Lisa Dismond, Pay and Leave, Employee Services, U.S. Office of Personnel Management; (202) 606-2858; FAX (202) 606-0824; or email to pay-leave-policy@opm.gov.

SUPPLEMENTARY INFORMATION: On December 22, 2010, the President signed Executive Order 13561 (75 FR 81817), which documented the January 2011 pay schedules. Pursuant to Public Law 111-242, as amended by Public Law 111-322, December 22, 2010, the Executive order provides that 2011 pay rates for the civilian employee pay schedules covered by the order are not adjusted and remain at 2010 levels.

Schedule 1 of Executive Order 13561 provides the rates for the 2011 General Schedule (GS) and reflects no increase from 2010. Executive Order 13561 also includes the percentage amounts of the 2011 locality payments, which remain at 2010 levels except for employees in nonforeign areas. (See Section 5 and Schedule 9 of Executive Order 13561.)

The publication of this notice satisfies the requirement in section 5(b) of Executive Order 13561 that the U.S. Office of Personnel Management (OPM) publish appropriate notice of the 2011 locality payments in the Federal Register.

GS employees receive locality payments under 5 U.S.C. 5304. Locality payments apply in the United States (as defined in 5 U.S.C. 5921(4)) and its territories and possessions. In 2011, locality payments ranging from 9.44 percent to 35.15 percent apply to GS employees in the 34 locality pay areas. The 2011 locality pay area definitions can be found at http://www.opm.gov/oca/11tables/locdef.asp.

The 2011 locality pay percentages became effective on the first day of the first pay period beginning on or after January 1, 2011 (January 2, 2011). An employee's locality rate of pay is computed by increasing his or her scheduled annual rate of pay (as defined in 5 CFR 531.602) by the applicable locality pay percentage. (See 5 CFR 531.604 and 531.609.) The Non-Foreign Area Retirement Equity Assurance Act of 2009 contained in subtitle B (sections 1911-1919) of title XIX of the National Defense Authorization Act for Fiscal Year 2010 (Pub. L. 111-84, October 28, 2009) extended coverage of the locality pay program to employees in Alaska, Hawaii, and the other nonforeign areas in 2010. For 2011, the statute provides that employees in each of these areas receive two-thirds of the applicable locality rate.

Executive Order 13561 documents that the Executive Schedule rates of pay remain at the 2010 levels. By law, Executive Schedule officials are not authorized to receive locality payments.

Executive Order 13561 documents the 2011 range of rates of basic pay for senior executives in the Senior Executive Service (SES) under 5 U.S.C. 5382. The minimum rate of basic pay for the SES remains at $119,554 in 2011. The maximum rate of the SES rate range continues to be $179,700 (level II of the Executive Schedule) for SES members covered by a certified SES performance appraisal system and $165,300 (level III of the Executive Schedule) for SES members covered by an SES performance appraisal system that has not been certified.

The minimum rate of basic pay for the senior-level (SL) and scientific and professional (ST) rate range remains at $119,554 in 2011. The applicable maximum rate of the SL/ST rate range continues to be $179,700 (level II of the Executive Schedule) for SL or ST employees covered by a certified SL/ST performance appraisal system and $165,300 (level III of the Executive Schedule) for SL or ST employees covered by an SL/ST performance appraisal system that has not been certified. Agencies with certified performance appraisal systems in 2011 for SES members and employees in SL and ST positions also must apply a higher aggregate limitation on pay—up to the Vice President's salary ($230,700 in 2011, the same level as in 2010).

By law, SES members and employees in SL and ST positions are not authorized to receive locality payments. Note: An exception applies to SES, SL, and ST employees stationed in a nonforeign area on January 2, 2010, which is explained in an OPM memorandum, CPM 2009-27. (See http://www.opm.gov/oca/compmemo/index.asp.)

Executive Order 13561 provides that the rates of basic pay for administrative law judges (ALJs) under 5 U.S.C. 5372 are not increased in 2011. The rate of basic pay for AL-1 remains at $155,500 (equivalent to the rate for EX-IV). The rate of basic pay for AL-2 remains at $151,800. The rates of basic pay for AL-3/A through 3/F continue to range from $103,900 to $143,700.

The rates of basic pay for members of Contract Appeals Boards are calculated as a percentage of the rate for level IV of the Executive Schedule. (See 5 U.S.C. 5372a.) Therefore, these rates of basic pay are not increased in 2011.

On December 13, 2010, the President's Pay Agent extended locality-based comparability payments to certain categories of non-GS employees again in 2011. The Governmentwide categories include ALJs and Contract Appeals Board members. The maximum locality rate of pay for these employees is the rate for level III of the Executive Schedule ($165,300 in 2011, the same level as in 2010).

On December 27, 2010, OPM issued a memorandum (CPM 2010-20) on the Executive order for the 2011 pay schedules. (See http://www.opm.gov/oca/compmemo/index.asp.) The memorandum transmitted Executive Order 13561 and provided the 2011 salary tables, locality pay areas and percentages, and information on general pay administration matters and other related information. The “2011 Salary Tables” posted on OPM's Web site at http://www.opm.gov/oca/11tables/index.asp are the official rates of pay for affected employees and are hereby incorporated as part of this notice.

U.S. Office of Personnel Management.
John Berry,
Director.

[FR Doc. 2011-7672 Filed 3-31-11; 8:45 am]

BILLING CODE 6325-39-P